DEPARTMENT OF THE INTERIOR

Office of the Secretary

Notice of the Proposed Appointment of Cloyce V. Choney to the National Indian Gaming Commission

AGENCY: Office of the Secretary, Interior.

ACTION: Notice.

SUMMARY: The Indian Regulatory Act provides for a three-person National Indian Gaming Commission. One member, the chairman, is appointed by the President with the advice and consent of the Senate. Two associate members are appointed by the Secretary of the Interior. Before appointing members, the Secretary is required to provide the public notice of a proposed appointment and allow for a comment period. Notice is hereby given of the proposed appointment of Cloyce V. Choney as an associate member of the National Indian Gaming Commission.

DATES: Comments must be received before or on October 4, 2002.

ADDRESSES: Comments should be submitted to the Director, Office of Executive Secretariat, United States Department of the Interior, 1849 C Street, NW., Mail Stop 7229, Washington, DC 20240.

FOR FURTHER INFORMATION CONTACT: Robert Moll, Assistant Solicitor, Division of General Law, Branch of General Legal Services, United States Department of the Interior, 1849 C Street, NW., Mail Stop 6531, Washington, DC 20240; telephone 202-208-5216.

SUPPLEMENTARY INFORMATION: The Indian Gaming Regulatory Act, 25 U.S.C. 2701 et seq. establishes the National Indian Gaming Commission (Commission), composed of three full-time members; a chairman and two associate members. 25 U.S.C. 2704(b). Commission members serve for a term of three years. 25 U.S.C. 2704(b)(2)(4)(A). The chairman is appointed by the President with the advice and consent of the Senate. 25 U.S.C. 2704(b)(1)(A). The two associate members are appointed by the Secretary of the Interior. 25 U.S.C. 2704(b)(1)(B). Before appointing an associate member to the Commission, the Secretary is required to “publish in the Federal Register the name and other information the Secretary deems pertinent regarding a nominee for membership on the Commission and * * * allow a period of not less than thirty days for receipt of public comment.” 25 U.S.C. 2704(b)(2)(B). Notice is hereby given of the proposed appointment of Cloyce V. Choney as an associate member of the Commission for a term of three years.

Cloyce V. Choney is well qualified to serve as a member of the Commission. From 1976 to 2001, Mr. Choney served as a Special Agent for the Federal Bureau of Investigation. During this time he handled a variety of cases involving civil rights, fraud, organized and white collar crime, and bank robbery investigation. He also served as Chair of the Native American/Alaska People Advisory Committee and was awarded several Federal Bureau of Investigation commendations, including the Director's Award for Excellence in 2001. In 2002, Mr. Choney became the Chief Executive Officer for Indian Territory Investigations. In that capacity, Mr. Choney is responsible for business development, reporting, and supervision of day-to-day activities related to the company's function of pre-employment background investigations. Between 1969 and 1975, Mr. Choney served in the United States Army, where he earned the rank of Captain. Mr. Choney has been a member of the National Native American Law Enforcement Association, and he served as its president from 1996-1997.

Mr. Choney is a member of the Comanche Nation of Oklahoma. He is also a member of the Kiowa Black Leggings Society and the Comanche War Scouts. He received a Bachelor of Science in Military Science from Oklahoma State University in 1968.

Cloyce V. Choney does not appear to have any financial interests that would make him ineligible to serve on the Commission under 25 U.S.C. 2704(b)(5)(B).

Any person wishing to submit comments on this proposed appointment may submit written comments to the address listed above. Comments must be received by October 4, 2002.

Dated: August 28, 2002.
Roderick Walston,
Deputy Solicitor.

[FR Doc. 02-22412 Filed 9-3-02; 8:45 am]

BILLING CODE 7565-01-M